DEPARTMENT OF THE INTERIOR

Bureau of Land Management

[LLNV952000 L14200000.BJ0000 241A; 11-08807; MO#4500020668; TAS: 14X1109]

Filing of Plats of Survey; Nevada

AGENCY: Bureau of Land Management, Interior.

ACTION: Notice.

SUMMARY: The purpose of this notice is to inform the public and interested State and local government officials of the filing of Plats of Survey in Nevada.

DATES: Effective Dates: Filing is effective at 10 a.m. on the dates indicated below.

FOR FURTHER INFORMATION CONTACT: David D. Morlan, Chief, Branch of Geographic Sciences, Bureau of Land Management, Nevada State Office, 1340 Financial Blvd., P.O. Box 12000, Reno, Nevada 89520, 775-861-6541. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: 1. The Plat of Survey of the following described lands was officially filed at the Nevada State Office, Reno, Nevada on April 8, 2010:

The plat, representing the dependent resurvey of a portion of the west boundary and the subdivision of section 31, and a metes-and-bounds survey in section 31, Township 17 North, Range 64 East, Mount Diablo Meridian, Nevada, under Group No. 886, was accepted April 6, 2010. This survey was executed to meet certain administrative needs of the Bureau of Land Management.

2. The Plats of Survey of the following described lands were officially filed at the Nevada State Office, Reno, Nevada on April 15, 2010:

The plat, in two (2) sheets, representing the dependent resurvey of the Fourth Standard Parallel North through a portion of Range 63 East, a portion of the west boundary and a portion of the subdivisional lines, the subdivision of sections 6 and 7, and metes-and-bounds surveys of portions of the easterly and westerly right-of-way lines of the Nevada Northern Railway, Township 20 North, Range 64 East, Mount Diablo Meridian, Nevada, under Group No. 857, was accepted on April 13, 2010.

The plat, in five (5) sheets, representing the dependent resurvey of portions of the east and north boundaries and a portion of the subdivisional lines, the subdivision of sections 12, 25 and 36, and metes-and-bounds surveys of portions of the easterly and westerly right-of-way lines of the Nevada Northern Railway, Township 21 North, Range 63 East, Mount Diablo Meridian, Nevada, under Group No. 857, was accepted on April 13, 2010. These surveys were executed to meet certain administrative needs of the Bureau of Land Management.

3. The Plat of Survey of the following described lands was officially filed at the Nevada State Office, Reno, Nevada on April 29, 2010:

The plat, in five (5) sheets, representing the dependent resurvey of a portion of the north boundary and a portion of the subdivisional lines, the subdivision of section 11, and metes-and-bounds surveys of portions of the easterly and westerly right-of-way lines of the Nevada Northern Railway, Township 22 North, Range 63 East, Mount Diablo Meridian, Nevada, under Group No. 867, was accepted on April 27, 2010. This survey was executed to meet certain administrative needs of the Bureau of Land Management.

4. The Plat of Survey of the following described lands was officially filed at the Nevada State Office, Reno, Nevada, on September 1, 2010:

The plat, in two (2) sheets, representing the dependent resurvey of portions of the south and west boundaries, a portion of the subdivisional lines and a portion of the subdivision-of-section lines of sections 30 and 33, and the further subdivision of sections 30 and 33, Township 15 North, Range 20 East, Mount Diablo Meridian, Nevada, under Group No. 874, was accepted August 31, 2010. This survey was executed to meet certain administrative needs of the U.S. Forest Service.

5. The Plat of Survey of the following described lands was officially filed at the Nevada State Office, Reno, Nevada on September 30, 2010:

The plat, in five (5) sheets, representing the dependent resurvey of a portion of the north boundary and a portion of the subdivisional lines, metes-and-bounds surveys of the easterly and westerly right-of-way lines of the Nevada Northern Railway and metes-and-bounds survey of portions of the Cherry Creek Station Grounds, Township 23 North, Range 63 East, Mount Diablo Meridian, Nevada, under Group No. 869, was accepted September 29, 2010. This survey was executed to meet certain administrative needs of the Bureau of Land Management.

6. The Plat of Survey of the following described lands was officially filed at the Nevada State Office, Reno, Nevada on January 7, 2011:

The plat, representing the dependent resurvey of the Second Standard Parallel South, through portions of Ranges 61 and 62 East; and a dependent resurvey of a portion of the east boundary of Township 9 South, Range 61 East; and the dependent resurvey of a portion of the subdivisional lines, and the subdivision of sections 4, 5 and 6, Township 9 South, Range 62 East, Mount Diablo Meridian, Nevada, under Group No. 877, was accepted on January 6, 2011. This survey was executed to meet certain administrative needs of the U.S. Fish and Wildlife Service.

7. The Plats of Survey of the following described lands were officially filed at the Nevada State Office, Reno, Nevada on February 4, 2011:

The plat, in four (4) sheets, representing the dependent resurvey of a portion of the east boundary and a portion of the subdivisional lines, and metes-and-bounds surveys of the easterly and westerly right-of-way lines of the Nevada Northern Railway, Township 24 North, Range 63 East, Mount Diablo Meridian, Nevada, under Group No. 880, was accepted on January 21, 2011.

The plat, in three (3) sheets, representing the dependent resurvey of a portion of the north boundary and a portion of the subdivisional lines, the subdivision of section 7, and metes-and-bounds surveys of portions of the easterly and westerly right-of-way lines of the Nevada Northern Railway, Township 24 North, Range 64 East, Mount Diablo Meridian, Nevada, under Group No. 880, was accepted on January 21, 2011. These surveys were executed to meet certain administrative needs of the Bureau of Land Management.

The plat, representing the dependent resurvey of portions of the east and north boundaries of Township 18 South, Range 59 East, Mount Diablo Meridian, Nevada, under Group No. 881, was accepted on January 21, 2011.

The plat, representing the dependent resurvey of a portion of the east boundary and a portion of the subdivisional lines, and the subdivision of sections 25, 26 and 27, Township 18 South, Range 60 East, Mount Diablo Meridian, Nevada, under Group No. 881, was accepted on January 21, 2011.

The plat, representing the entire survey record of the dependent resurvey of a portion of the south boundary of Township 18 South, Range 62 East, Mount Diablo Meridian, Nevada, under Group No. 882, was accepted on January 21, 2011. These surveys were executed to meet certain administrative needs of the U.S. Fish and Wildlife Service.

The above-listed surveys are now the basic record for describing the lands for all authorized purposes. These surveys have been placed in the open files in the Bureau of Land Management, Nevada State Office and are available to the public as a matter of information. Copies of the surveys and related field notes may be furnished to the public upon payment of the appropriate fees.

Dated: April 4, 2011.
David D. Morlan,
Chief Cadastral Surveyor, Nevada.

[FR Doc. 2011-8420 Filed 4-7-11; 8:45 am]

BILLING CODE 4310-HC-P